CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed surveys to be conducted for its Process Evaluation of the Social Innovation Fund (SIF) Pay for Success (PFS) Grant Program. The study involves two major survey data collection activities: (1) Grantee Survey, and (2) Subgrantee/Subrecipient Survey. CNCS funded eight grantees in 2014 to provide technical assistance to community organizations and state or local government agencies (referred to as subgrantees/subrecipients) to assist them to determine feasibility of implementing PFS projects in a particular state or locality and to negotiate the terms and structure of the PFS deals (for PFS projects determined feasible). CNCS expects to fund approximately four additional grantees in 2015 and potentially an additional six grantees in 2016 (pending continuation of the grant program). Each grantee is expected to receive three years of funding. Responses will be collected from all current and future SIF PFS grantees and their subgrantees/subrecipients annually for the duration of their SIF PFS funding. The completion of this information collection is not required to be considered for or to obtain grant funding support from the SIF PFS program.

Copies of the information collection request can be obtained by contacting the office listed in the Addresses section of this Notice.

DATES: Written comments must be submitted to the individual and office listed in the ADDRESSES section by February 9, 2016.

ADDRESSES: You may submit comments, identified by the title of the information collection activity, by any of the following methods:

(1) By mail sent to: Corporation for National and Community Service, Office of Research and Evaluation; Attention Lily Zandniapour, Ph.D., Evaluation Program Manager, Room 10911, 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov or through the Corporation's email system to LZandniapour@cns.gov.

Individuals who use a telecommunications device for the deaf (TTY-TDD) may call 1-800-833-3722 between 8:00 a.m. and 8:00 p.m. Eastern Time, Monday through Friday.

FOR FURTHER INFORMATION CONTACT: Lily Zandniapour, 202-606-6939 or by email at LZandniapour@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has contracted with Abt Associates to support CNCS's Office of Research and Evaluation to implement a process evaluation of the Social Innovation Fund (SIF) Pay for Success (PFS) Grant Program. The major data collection activities to be undertaken subject to this notice will include two surveys: (1) Grantee Survey, and (2) Subgrantee/Subrecipient Survey. Survey information will be collected from current and future SIF PFS grantees and their subgrantees/subrecipients through an online survey program. The purpose of the Grantee Survey is to better understand grantees' program structure, practices in providing technical assistance and deal structuring activities. The Subgrantee/Subrecipient Survey will collect data on activities, capacity, and perspectives and experiences of subgrantees/subrecipients receiving technical assistance from the grantees.

Current Action

Type of Review: New.

Agency: Corporation for National and Community Service.

Title: Process Evaluation of the Social Innovation Fund (SIF) Pay for Success (PFS) Grant Program.

OMB Number: None.

Agency Number: 3045.

Affected Public: Current and future CNCS-funded SIF PFS grantees (mostly nonprofit organizations) and current and future community organizations and state or local government agencies (referred to as subgrantees/subrecipients).

Total Respondents: Approximately 260. This includes approximately 18 respondents to the Grantee Survey and approximately 242 respondents to the Subgrantee/Subrecipient Survey. The exact number of respondents will depend on the number of new grantees funded by the SIF PFS program in 2015 and 2016 and the number of subrecipients/subgrantees that each grantee selects to work with each year of their grant.

Frequency: Once per year. Each respondent will complete the survey annually for one to three years depending upon the timing and duration of their funding.

Average Time per Response: 20 minutes per year.

Estimated Total Burden Hours: 151 hours.

Total Burden Cost (capital/startup): None.

Total Burden Cost (operating/maintenance): None.

Comments submitted in response to this notice will be summarized and/or included in the request for Office of Management and Budget approval of the information collection request; they will also become a matter of public record.

Dated: December 7, 2015.
Mary Hyde,
Director, Research and Evaluation.

[FR Doc. 2015-31260 Filed 12-10-15; 8:45 am]

BILLING CODE 6050-28-P